DEPARTMENT OF TRANSPORTATION

Office of the Secretary

Application of Cool Tours, Inc. d/b/a San Juan Aviation for Commuter Authority

AGENCY: Department of Transportation.

ACTION: Notice of Order to Show Cause (Order 2003-6-23), Docket OST-02-13937.

SUMMARY: The Department of Transportation is directing all interested persons to show cause why it should not issue an order finding that Cool Tours, Inc. d/b/a San Juan Aviation is fit, willing, and able under 49 U.S.C. 41738 to provide scheduled passenger service as a commuter air carrier and issue to it a Commuter Air Carrier Authorization.

DATES: Persons wishing to file objections should do so no later than July 7, 2003.

ADDRESSES: Objections and answers to objections should be filed in Docket OST-02-13937 and addressed to the Department of Transportation Dockets (M-30, Room PL-401), U.S. Department of Transportation, 400 Seventh Street, SW., Washington, DC 20590, and should be served upon the parties listed in Attachment A to the order.

FOR FURTHER INFORMATION CONTACT: Mr. Howard Serig, Air Carrier Fitness Division (X-56, Room 6401), U.S. Department of Transportation, 400 Seventh Street, SW., Washington, DC 20590, (202) 366-4822.

Dated: June 17, 2003.
Michael W. Reynolds,
Acting Assistant Secretary for Aviation and International Affairs.

[FR Doc. 03-15783 Filed 6-20-03; 8:45 am]

BILLING CODE 4910-62-P